FEDERAL COMMUNICATIONS COMMISSION

Deletion of Items From Sunshine Act Meeting

May 17, 2017.

The following consent agenda item has been deleted from the list of items scheduled for consideration at the Thursday, May 18, 2017, Open Meeting and previously listed in the Commission's Notice of May 11, 2017.

* * * * *

Consent Agenda

The Commission will consider the following subject listed below as a consent agenda and this item will not be presented individually:

1 | Media | Title: Budd Broadcasting Co., Inc., Application for Renewal of License for Television Station WFXU(TV), Live Oak, Florida.
|  | Summary: The Commission will consider an Order adopting a Consent Decree which resolves issues regarding potential violations of the Commission's rules and grants the license renewal application of WFXU(TV).

Federal Communications Commission.
Marlene H. Dortch,
Secretary.

[FR Doc. 2017-10627 Filed 5-19-17; 4:15 pm]

BILLING CODE 6712-01-P